DEPARTMENT OF TRANSPORTATION

National Highway Traffic Safety Administration

49 CFR Part 541

[Docket No. NHTSA-2009-0069]

RIN 2127-AK81

Federal Motor Vehicle Theft Prevention Standard

AGENCY: National Highway Traffic Safety Administration, DOT.

ACTION: Final rule; technical amendment.

SUMMARY: In this technical amendment, the National Highway Traffic Safety Administration (NHTSA) updates the address for submission, and the procedure to submit designation of target areas on high theft major parts of motor vehicles. E-mail is now included as a means to submit the target area designations. Under the Theft Prevention Standard, manufacturers of high theft passenger motor vehicle lines subject to parts marking, and manufacturers of replacement parts designed for high theft lines, must submit designation of target areas for identifying numbers to be marked on each major part and symbols to be marked on each major replacement part. This rulemaking makes no substantive changes to the Theft Prevention Standard.

DATES: This final rule becomes effective June 1, 2011.

FOR FURTHER INFORMATION CONTACT: Ms. Carlita Ballard, NHTSA, 1200 New Jersey Ave., SE., Rm. W43-439, NVS-131, Washington, DC 20590. Ms. Ballard's telephone number is: (202) 366-0846.

SUPPLEMENTARY INFORMATION: 49 CFR Part 541, Federal Motor Vehicle Theft Prevention Standard, specifies that major parts ¹ and major replacement parts of motor vehicles subject to the standard must be marked in accordance with Section 541.5, for passenger motor vehicles, and Section 541.6 for replacement parts. The standard specifies that each manufacturer that is the original producer that installs or assembles the covered major parts on a line shall designate a target area for the identifying numbers to be marked on each major part. For replacement parts, the standard specifies that each manufacturer that is the original producer or assembler of the vehicle for which the replacement part is designed shall designate a target area for the identifying symbols to be marked on each replacement part for a major part.

¹ Each of the following parts, if present on a motor vehicle: engine; transmission; right front fender; left front fender; hood; right front door; left front door; right rear door; left rear door; sliding or cargo door(s); front bumper; rear bumper; right rear quarter panel (passenger cars); left rear quarter panel (passenger cars); right side assembly (MPVs); left side assembly (MPVs); pickup box and/or cargo box (LDTs); rear door(s) (both doors in case of double doors), decklid, tailgate, or hatchback, whichever is present.

At present, Part 541 specifies that designation of target areas is to be submitted to: Administrator, National Highway Traffic Safety Administration, 400 Seventh Street, SW., Washington, DC 20590. NHTSA has moved, and this address is no longer applicable. This technical amendment updates NHTSA's address. In addition, to facilitate timely release of target area information, and to maximize use of electronic means, the target area information henceforth may be sent to the Docket Management Facility (Docket No. NHTSA-2009-0069) which is accessible at: http://www.regulations.gov. Through this technical amendment, manufacturers will have several options when providing the target area information: electronic means through the portal http://www.regulations.gov; paper copies (via US mail, private courier or hand delivery) to Docket Management at 1200 New Jersey Avenue, SE., (NHTSA's new address); or faxing the information.

Through these new means, it is anticipated that the public will be able to view target area information much more quickly than was the case in the past. Because the information may go directly to a publicly reviewable docket, (i.e., NHTSA-2009-0069), NHTSA does not advise that manufacturers send any information for which a manufacturer wishes to assert confidential treatment to Docket Management or to http://www.regulations.gov. In the event that a manufacturer wishes the target location data to be treated as confidential information prior to the release of a new model, it should submit the theft area data to NHTSA's Office of the Chief Counsel and request confidential treatment as set forth in 49 CFR Part 512 Confidential Business Information. Because confidential target location data will become public when a new model is released for sale, sections 541.5(e)(2) and 541.6(e)(3) also require submission of the target location data within seven days after the information has been made public or the new vehicle line has been released for sale to the public, whichever comes first.

This change will not make any substantive changes to the Theft Prevention Standard and will not impose any additional substantive requirements or burdens on manufacturers. Therefore, NHTSA finds for good cause that a notice of proposed rulemaking and opportunity for comment on these amendments are not necessary. In addition, this final rule will change the address to which manufacturers will provide target location data, but will have no effect on the collection of information burden associated with the Theft Prevention Standard (See OMB Clearance No. 2127-0539 Procedure for Selecting Lines to be Covered by the Theft Prevention Standard, expiration date: 6/30/2011).

List of Subjects in 49 CFR Part 541

Crime, Labeling, Motor vehicles, Reporting and recordkeeping requirements.

In consideration of the foregoing, NHTSA amends 49 CFR Part 541 as set forth below.

PART 541—FEDERAL MOTOR VEHICLE THEFT PREVENTION STANDARD

1. The authority citation for Part 541 continues to read as follows:

Authority: 49 U.S.C. 33101, 33102, 33013, and 330105; delegation of authority at 49 CFR 1.50.

2. In § 541.5, paragraph (e)(2) is amended by revising the second sentence, by adding third and fourth sentences, and paragraphs (e)(2)(i) through (iv) are added to read as follows:

§ 541.5 Requirements for passenger motor vehicles.

* * * * *

(e)(2) * * * In those instances where a manufacturer has submitted this target area information to NHTSA with a request for confidential treatment pursuant to 49 CFR Part 512, the manufacturer must also submit a complete copy of the target area information within seven (7) days after the information becomes public, or the new line is released for sale to the public, whichever comes first. The information must be submitted to: Docket Management, Room W12-140, West Building, Ground Floor, 1200 New Jersey Avenue, SE., Washington, DC 20590 by any of the following methods. In all cases, the docket number for the submission, (Docket No. NHTSA-2009-0069) must be cited.

(i) Electronic submission to the Federal eRulemaking Portal: http://www.regulations.gov. Follow the instructions for submitting information.

(ii) By U.S. Mail: Docket Management Facility: U.S. Department of Transportation, 1200 New Jersey Avenue, SE., West Building, Ground Floor, Room W12-140, Washington, D.C. 20590.

(iii) Hand delivery or by courier: 1200 New Jersey Avenue, SE., West Building, Ground Floor, Room W12-140, Washington, DC 20590, between 9 a.m. and 5 p.m., Monday through Friday, except Federal holidays. Telephone: 1-800-647-5527.

(iv) By Fax transmission: (202) 493-2251.

* * * * *

3. In § 541.6, paragraph (e)(3) is amended by revising the second sentence, by adding third and fourth sentences, and paragraphs (e)(3)(i) through (iv) are added to read as follows:

§ 541.6 Requirement for replacement parts.

* * * * *

(e)(3) * * * In those instances where a manufacturer has submitted this target area information to NHTSA with a request for confidential treatment under 49 CFR Part 512, the manufacturer shall also submit a complete copy of the target area information within seven (7) days after the information has become public or the new line has been released for sale to the public, whichever comes first. The information should be submitted to: Docket Management, Room W12-140, Ground Floor, 1200 New Jersey Avenue, SE., Washington, DC 20590 by any of the following methods. In all cases, the docket number for the submission, (Docket No. NHTSA-2009-0069) must be cited.

(i) Electronic submission to the Federal eRulemaking Portal: http://www.regulations.gov. Follow the instructions for submitting information.

(ii) By U.S. Mail: Docket Management Facility: U.S. Department of Transportation, 1200 New Jersey Avenue, SE., West Building, Ground Floor, Room W12-140, Washington, DC 20590.

(iii) Hand delivery or by courier: 1200 New Jersey Avenue, S.E., West Building, Ground Floor, Room W12-140, Washington, DC 20590, between 9 a.m. and 5 p.m., Monday through Friday, except Federal holidays. Telephone: 1-800-647-5527.

(iv) By Fax transmission: (202) 493-2251.

* * * * *

Issued on: April 26, 2011.
Christopher J. Bonanti,
Associate Administrator for Rulemaking.

[FR Doc. 2011-10605 Filed 4-29-11; 8:45 am]

BILLING CODE 4910-59-P